ARCHITECTURAL AND TRANSPORTATION BARRIERS COMPLIANCE BOARD

[Docket No. ATBCB-2016-0001]

RIN 3014-0012

Proposed Renewal of Information Collection; OMB Control Number 3014-0012, Online Architectural Barriers Act (ABA) Complaint Form

AGENCY: Architectural and Transportation Barriers Compliance Board.

ACTION: 30-Day Notice and request for comments.

SUMMARY: We, the Architectural and Transportation Barriers Compliance Board (Access Board), plan to seek renewed approval from the Office of Management and Budget (OMB) for the information collection described below, namely our Online Architectural Barriers Act (ABA) Complaint Form (OMB Control Number 3014-0012), in accordance with the Paperwork Reduction Act of 1995. We have been using this complaint form since 2013 and propose to continue using it for an additional three years. By notice published on July 26, 2016, we solicited public comment on the proposed collection of information for a period of 60 days. See 81 FR 48739 (July 26, 2016). One comment was received, but it was not relevant to the information collection, and no revisions were made to the proposed Online ABA Complaint Form. The purpose of this notice is to allow an additional 30 days for public comment.

DATES: Submit comments by December 29, 2016.

ADDRESSES: Written comments should be identified as “Paperwork Reduction Act Comments, U.S. Access Board: ABA Complaint Form” and directed to OMB, Office of Information and Regulatory Affairs, Attention: Joe Nye, U.S. Access Board Desk Officer, by email at OIRA_SUBMISSION@OMB.EOP.GOV or by mail to Room 10235, 725 17th Street NW., Washington, DC 20503. Please also send a copy to Mario Damiani, Office of the General Counsel, U.S. Access Board, 1331 F Street NW., Suite 1000, Washington, DC 20004-1111 or to damiani@access-board.gov.

FOR FURTHER INFORMATION CONTACT: For further information regarding this proposed information request, contact Mario Damiani, Office of the General Counsel, U.S. Access Board, 1331 F Street NW., Suite 1000, Washington, DC 20004-1111. Telephone number: 202-272-0050 (voice); 202-272-0064 (TTY). Email address: damiani@access-board.gov.

SUPPLEMENTARY INFORMATION:

Title of Collection: Online Architectural Barriers Act (ABA) Complaint Form.

OMB Control Number: 3014-0012.

Type of Request: Renewal of information collection.

Abstract

The Architectural and Transportation Barriers Compliance Board (Access Board) is seeking to renew its information collection for its Online Architectural Barriers Act (ABA) Complaint Form. The instrument allows complainants to submit a complaint online using a standardized Web-based complaint form posted on the agency's Web site, which prompts users to provide allegations and other pertinent data necessary for the Access Board to investigate their ABA complaint. The online form is user-friendly and accessible, and allows for greater efficiency, clarity, and timeliness in the complaint filing process. To view the Online ABA Complaint Form, please visit: http://cts.access-board.gov/formsiq/form.do?formset_id=2&amp;ds=fdd&amp;reload=true#.

Use of the Information

The Access Board enforces the ABA by investigating complaints submitted by members of the public concerning buildings or facilities designed, altered, or built by or on behalf of the federal government, leased by the federal government, or financed with federal funds. The Access Board uses the information provided by complainants concerning the building or facility and alleged accessibility barriers, along with any photographs or other supporting documentation which may be provided, to conduct its investigation. If complainants choose to provide personal contact information, which is optional, that information is not disclosed outside the agency without the written permission of the complainant.

Detailed Description of the Instrument

As noted above, the Online ABA Complaint Form is a standardized, web-based form available on the Access Board's Web site, and it can be filed 24 hours per day, seven days per week. Over 90 percent of complaints the Access Board receives each year are submitted using the Online ABA Complaint Form; the remainder are submitted in writing (without use of a form) by email, mail, or fax.

The Online ABA Complaint Form first prompts complainants to complete the form fields for the name and address of the building or facility. Second, complainants must select a barrier category from a drop-down menu (e.g., doors, accessible routes, parking, etc.) for each barrier they allege to exist, then describe each barrier. Third, complainants are prompted to provide personal information, including their name, address, telephone number(s), and email address; again, this information is entirely optional, as complaints can be submitted anonymously. Complainants also have the option to attach electronic files containing pictures, drawings, or other relevant documents to the online complaint form when it is filed. Once any additional information is attached and the complaint is submitted, the system provides complainants confirmation that their complaint has been submitted successfully, together with an automatically generated complaint number for them to use when making inquiries about the status of their complaint.

We note that use of the Online ABA Complaint Form has greatly improved the completeness of the information included in complaints that are submitted for investigation, and that this in turn has expedited the processing of complaints.

Estimate of Burden

Public reporting burden for this collection of information is estimated to average less than 30 minutes to complete the Online ABA Complaint Form, depending on the number of alleged barriers the complainant identifies.

There is no financial burden on the complainant. Use of the online form relieves much of the burden that the prior practice of using a paper complaint form put on complainants by making it clear which information is required and which is optional, and by essentially walking complainants through the process, step-by-step. As noted above, over 90 percent of all ABA complaints are submitted using the online form, though the Access Board continues to accept written complaints (without the use of any form) submitted by email, mail, or fax for complainants who prefer or need to use these filing methods.

Respondents: Individuals.

Estimated Number of Responses: 200 responses annually.

Frequency of Responses: Nearly all complainants only ever file one ABA complaint. Approximately 200 individuals file ABA complaints with the Access Board each year.

Estimated Total Annual Burden on Respondents: Each Online ABA Complaint Form takes approximately 30 minutes to complete, for a total of 100 hours annually (200 complaints × .5 hours). There is no financial burden on complainants.

Comments Requested

Comments are invited on (a) whether the proposed collection of information is necessary for the proper performance of the functions of the agency, including whether the information will have practical utility; (b) the accuracy of the estimated burden of the proposed collection of information; (c) ways to enhance the quality, utility, and clarity of the information from respondents; and (d) ways to minimize the burden of the collection of information on those who are to respond.

David M. Capozzi,
Executive Director.

[FR Doc. 2016-28743 Filed 11-28-16; 8:45 am]

BILLING CODE P